ENVIRONMENTAL PROTECTION AGENCY

[CERCLA 01-2021-0082; FRL-9159-01-R1]

Proposed CERCLA Cost Recovery and Work Administrative Settlement: Wampus Milford Associates Site, Milford, Connecticut

AGENCY: Environmental Protection Agency (EPA).

ACTION: Notice of proposed settlement; request for public comments.

SUMMARY: Notice is hereby given of a proposed cost recovery and work administrative settlement concerning the Wampus Milford Associates Site (Site), located in Milford, New Haven County, Connecticut, with the Settling Party, FCI USA LLC. The proposed settlement requires the Settling Party to conduct a removal action estimated to cost approximately $1.2 million at the Wood Block Area of the Site and pay all of EPA's future response costs in overseeing the removal work. The parameters of the removal action include, but are not limited to, excavation and disposal of soil/woodblock debris contaminated by polycyclic aromatic hydrocarbons. In exchange, EPA will provide the Settling Party with a covenant not to sue for the work, future response costs related to the work, and EPA's past response costs, which are approximately $105,800. For 30 days following the date of publication of this notice, the Agency will receive written comments relating to the settlement for cost recovery and response work.

DATES: Comments must be submitted by November 26, 2021.

ADDRESSES: Comments should be addressed to RuthAnn Sherman, Senior Enforcement Counsel, Office of Regional Counsel, U.S. Environmental Protection Agency, 5 Post Office Square, Suite 100 (04-2), Boston, MA 02109-3912, (617) 918-1886, sherman.ruthann@epa.gov, and should reference the Wampus Milford Associates Site, U.S. EPA Docket No: CERCLA 01-2021-0082.

FOR FURTHER INFORMATION CONTACT: A copy of the proposed settlement may be obtained from Stacy Greendlinger, Superfund and Emergency Management Division, U.S. Environmental Protection Agency, Region I, 5 Post Office Square, Suite 100 (02-2), Boston, MA 02109-3912, telephone number: (617) 918-1403, email address: greendlinger.stacy@epa.gov. Direct technical questions to Stacy Greendlinger and legal questions to RuthAnn Sherman, Office of Regional Counsel, U.S. Environmental Protection Agency, Region I, 5 Post Office Square, Suite 100 (04-2), Boston, MA 02109-3912, telephone number: (617) 918-1886, email address: sherman.ruthann@epa.gov.

SUPPLEMENTARY INFORMATION: This proposed cost recovery and work administrative settlement concerning the Wampus Milford Associates Site, located in Milford, New Haven County, Connecticut, is made in accordance with Section 122(h)(l) of the Comprehensive Environmental Response, Compensation, and Liability Act (CERCLA). EPA covenants not to sue or take administrative action against the FCI USA LLC, pursuant to Section 107(a) of CERCLA, 42 U.S.C. 9607(a), for the Work, Future Response Costs, and Past Response Costs, as defined in the settlement agreement. In exchange, the Settling Party agrees to conduct a removal action estimated to cost approximately $1.2 million, and pay all of EPA's future response costs related to overseeing the work. The Agency will consider all comments received and may modify or withdraw its consent to this cost recovery settlement if comments received disclose facts or considerations which indicate that the settlement is inappropriate, improper, or inadequate. The Agency's response to any comments received will be available for public inspection at the Environmental Protection Agency—Region I, 5 Post Office Square, Suite 100, Boston, MA 02109-3912. The Effective Date of the Agreement is the date upon which EPA notifies FCI USA LLC that the public comment period has closed and that such comments, if any, do not require that EPA modify or withdraw from the Agreement. The proposed settlement has been approved by the Environmental and Natural Resources Division of the United States Department of Justice, subject to any comments received and EPA's response thereto.

Bryan Olson,
Director, Superfund and Emergency Management Division.

[FR Doc. 2021-23394 Filed 10-26-21; 8:45 am]

BILLING CODE 6560-50-P